DEPARTMENT OF THE INTERIOR

National Park Service

National Register of Historic Places; Notification of Pending Nominations

Nominations for the following properties being considered for listing in the National Register were received by the National Park Service before September 13, 2003.

Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St. NW., 8th floor, Washington DC 20005; or by fax, 202-371-6447. Written or faxed comments should be submitted by October 21, 2003.

Carol D. Shull,
Keeper of the National Register of Historic Places.

CALIFORNIA

Plumas County

Drakesbad Guest Ranch, Head of Warner Creek Valley, Lassen Volcanic National Park, Chester, 03001062

Tulare County

Mineral King, Mineral King Rd, Sequoia National Park, Mineral King, 03001063

LOUISIANA

Rapides Parish

Pegram Plantation House, 881 Chickamaw Rd., Lecompte, 03001064

MISSOURI

Greene County

Woods—Evertz Stove Company Historic District, Area bounded by N. Jefferson Ave., E Phelps St., N. Robberson Ave. and E. Tampa St., Springfield, 03001071

Ozark County

Harlin, John Conkin and Clara Layton, House, 403 Harlin Dr., Gainesville, 03001065

St. Louis Independent City

Hotel Jefferson, 415 N. Tucker Blvd., St. Louis (Independent City), 03001066

NEVADA

Humboldt County

Martin Hotel, 94 W. Railroad St., Winnemucca, 03001067

OREGON

Multnomah County

New Imperial Hotel, 400 SW Broadway, Portland, 03001068

RHODE ISLAND

Providence County

Edgewood Historic District—Taft Estate Plat, Roughly bounded by Windsor Rd, Narragansett Bay, Circuit Dr. and Broad St. Cranston, 03001069

SOUTH DAKOTA

Brookings County

Singsaas Lutheran Church, 19716 487th Ave., Lake Hendricks Township, 03001070

Codington County

Beskow Barn, 15689 456th Ave., South Shore, 03001072

Puhlman Farm, 44350 176th St., Hazel, 03001075

Hughes County

Harrold School, (Schools in South Dakota MPS) 206 S. Nixon Ave., Harrold, 03001073

Kingsbury County

Lake Reston High School, (Schools in South Dakota MPS) 300 1st St., NE, Lake Preston, 03001074

TENNESSEE

Davidson County

Craig, Mrs. Edward B., House, (Forest Hills, Tennessee MPS) 1418 Chickering Rd., Forest Hills, 03001078

Dudley, Guildfor, Sr. and Anne Dallas, House, (Forest Hills, Tennessee MPS) 5401 Hillsboro Pike, Forest Hills, 03001080

Houston Jr., P.D., House, (Forest Hills, Tennessee MPS) 5617 Hillsboro Pike, Forest Hills, 03001081

Kennedy Jr., Thomas P., House, (Forest Hills, Tennessee MPS) 6231 Hillsboro Pike, Forest Hills, 03001079

Martin, Richard E., House, (Forest Hills, Tennessee MPS) 30 Castlewood Court, Forest Hills, 03001083

Neuhoff, Henry, House, (Forest Hills, Tennessee MPS) 1407 Chickering Rd., Forest Hills, 03001077

Pilcher, Dr. Cobb, House, (Forest Hills, Tennessee MPS) 5335 Stanford Dr., Forest Hills, 03001082

VIRGINIA

Albemarle County

Birdwood, 500 Birdwood Dr., Charlottesville, 03001094

Bon Homme County

Thompson House, (Federal Relief Construction in South Dakota MPS) 30985 421st. Ave., Springfield, 03001076

Charlottesville Independent City

Montebello, 1700 Stadium Rd., Charlottesville (Independent City), 03001085

Sunnyside, 2150 Barracks Rd., Charlottesville (Independent City), 03001086

Colonial Heights Independent City

Conjurer's Neck Archeological District, Address Restricted, Colonial Heights (Independent City), 03001090

Dinwiddie County

Petersburg Breakthrough Battlefield Historic District at Pamplin Historical Park, 6125 Boydton Plank Rd., 6619 Duncan Rd., Petersburg, 03001095

Fairfax County

Green Spring, 4601 Green Spring Rd., Alexandria, 03001089

Fluvanna County

Gum Creek, 1317 Stage Junction Rd., Columbia, 03001084

Giles County

Walker's Creek Presbyterian church, Walker's Creek Valley Rd., Pearisburg, 03001088

King George County

Nansattico Archeological Site, Address Restricted, Index, 03001091

Pulaski County

Spring Dale, Address Restricted, Dublin, 03001087

Roanoke County

McVitty Home, 601 W. Main St., Salem, 03001092

Rockbridge County

Lylburn Downing School, 300 Diamond St., Lexington, 03001093

Russell County

Quillen, Stephen B., House, 149 Church St., Lebanon, 03001096

Southampton County

Simmons—Sebrell—Camp House, Zebulon Simmons Tract, Courtland, 03001097

[FR Doc. 03-25211 Filed 10-3-03; 8:45 am]

BILLING CODE 4312-51-P